DEPARTMENT OF ENERGY

Federal Energy Regulatory Commission

Combined Notice of Filings #1

November 9, 2007.

Take notice that the Commission received the following electric rate filings:

Docket Numbers: ER01-205-023, ER98-2640-021, ER98-4590-019, ER99-1610-027.

Applicants: Xcel Energy Services Inc.; Northern States Power Company and Northern States Power Company (Wisconsin); Public Service Company of Colorado; Southwestern Public Service Company.

Description: Xcel Energy Services Inc et. al; submit a change in status report relating to the market-based rate authority.

Filed Date: 10/30/2007.

Accession Number: 20071105-0148.

Comment Date: 5 p.m. Eastern Time on Tuesday, November 20, 2007.

Docket Numbers: ER03-583-007; ER03-681-005; ER03-682-006; ER03-744-005.

Applicants: Entergy Services, Inc.

Description: Entergy Services Inc on behalf of Entergy Operating Companies et. al, submits its compliance filing.

Filed Date: 11/06/2007.

Accession Number: 20071108-0021.

Comment Date: 5 p.m. Eastern Time on Tuesday, November 27, 2007.

Docket Numbers: ER05-644-000.

Applicants: PSEG Energy Resources & Trade LLC; PSEG Fossil LLC.

Description: Informational Filing regarding Planned Project Investments of PSEG Fossil LLC, and PSEG Energy Resources & Trade LLC et. al.

Filed Date: 11/05/2007.

Accession Number: 20071105-5066.

Comment Date: 5 p.m. Eastern Time on Monday, November 26, 2007.

Docket Numbers: ER07-1221-003.

Applicants: Rensselaer Cogeneration LLC.

Description: Rensselaer Cogeneration LLC submits a notice of succession and triennial update market power analysis.

Filed Date: 11/06/2007.

Accession Number: 20071108-0273.

Comment Date: 5 p.m. Eastern Time on Tuesday, November 27, 2007.

Docket Numbers: ER07-1278-002.

Applicants: Alpha Energy Master, Ltd.

Description: Alpha Energy Master, Ltd submits Substitute Original Sheet No. 1 and 2 of a tariff.

Filed Date: 11/06/2007.

Accession Number: 20071107-0116.

Comment Date: 5 p.m. Eastern Time on Tuesday, November 27, 2007.

Docket Numbers: ER08-2-000, ER08-196-000.

Applicants: Avista Corporation.

Description: Avista Corp and NorthWestern Corp submits a non-conforming Long-Term Service Agreements, FERC Electric Rate Schedule 484 and FERC Electric Rate Schedule 248.

Filed Date: 10/01/2007.

Accession Number: 20071003-0033.

Comment Date: 5 p.m. Eastern Time on Friday, November 23, 2007.

Docket Numbers: ER08-190-000.

Applicants: ISO New England Inc.

Description: ISO New England Inc submits its informational filing for qualification in the Forward Capacity Market.

Filed Date: 11/06/2007.

Accession Number: 20071108-0279.

Comment Date: 5 p.m. Eastern Time on Wednesday, November 21, 2007.

Docket Numbers: ER08-191-000.

Applicants: Aquila, Inc.

Description: Aquila, Inc submits an Amended and Restated Coordinating Agreement for the Cooper-Fairport—St Joseph 354 kV Interconnection with Associated Electric Coop, Inc.

Filed Date: 11/06/2007.

Accession Number: 20071108-0272.

Comment Date: 5 p.m. Eastern Time on Tuesday, November 27, 2007.

Docket Numbers: ER08-192-000.

Applicants: Westar Energy, Inc.

Description: Westar Energy, Inc submits a Petition for Approval of Agreement.

Filed Date: 11/06/2007.

Accession Number: 20071108-0271.

Comment Date: 5 p.m. Eastern Time on Tuesday, November 27, 2007.

Docket Numbers: ER08-195-000.

Applicants: ISO New England Inc.

Description: Filing of ISO New England, Inc of Revised Tariff Sheets for Recovery of its 2008 Administrative Costs.

Filed Date: 10/31/2007.

Accession Number: 20071102-0121.

Comment Date: 5 p.m. Eastern Time on Wednesday, November 21, 2007.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please e-mail FERCOnlineSupport@ferc.gov or call (866) 208-3676 (toll free). For TTY, call (202) 502-8659.

Nathaniel J. Davis, Sr.,
Acting Deputy Director.

[FR Doc. E7-22652 Filed 11-19-07; 8:45 am]

BILLING CODE 6717-01-P